FEDERAL ELECTION COMMISSION

Sunshine Act; Notice of Meeting

AGENCY: Federal Election Commission.

Previously Scheduled Date & Time: Thursday, March 16, 2006 at 10 a.m.

Place: 999 E Street, NW., Washington, DC (Ninth Floor).

Status: This meeting will be open to the public.

The Following Item was Added to the Agenda:

Draft Explanation and Justification for Interim Final Rule on Definition of “Federal Election Activity” (11 CFR 100.24(a)(1)(iii)).

FOR FURTHER INFORMATION CONTACT: Mr. Robert Biersack, Press Officer. Telephone: (202) 694-1220.

Mary W. Dove,
Secretary of the Commission.

[FR Doc. 06-2525 Filed 3-10-06; 2:28 pm]

BILLING CODE 6715-01-M